SMALL BUSINESS ADMINISTRATION

[License No. 06/76-0329]

Pharos Capital Partners II, L.P.; Notice Seeking Exemption Under Section 312 of the Small Business Investment Act, Conflicts of Interest

Notice is hereby given that Pharos Capital Partners II, L.P., One Burton Hills Blvd., Suite 180, Nashville, TN 37215, a Federal Licensee under the Small Business Investment Act of 1958, as amended (“the Act”), in connection with the financing of a small concern, has sought an exemption under section 312 of the Act and § 107.730, Financings which Constitute Conflicts of Interest of the Small Business Administration (“SBA”) Rules and Regulations (13 CFR 107.730). Pharos Capital Partners II, L.P. proposes to provide equity/debt security financing to Alereon, Inc. The financing is contemplated for working capital and general corporate purposes.

The financing is brought within the purview of § 107.730(a)(1) of the Regulations because Pharos Capital Partners, L.P. is an Associate of Pharos Capital Partners II, L.P. which owns more than ten percent of Alereon, Inc. Therefore, Alereon, Inc. is considered an Associate of Pharos Capital Partners II, L.P. as defined in 13 CFR 107.50 of the SBIC Regulations.

Notice is hereby given that any interested person may submit written comments on the transaction to the Associate Administrator for Investment, U.S. Small Business Administration, 409 Third Street, SW., Washington, DC 20416.

Jaime Guzmańn-Fournier,
Associate Administrator for Investment.

[FR Doc. 05-20496 Filed 10-12-05; 8:45 am]

BILLING CODE 6025-01-P